DEPARTMENT OF HEALTH AND HUMAN SERVICES

Centers for Disease Control and Prevention

[Program Announcement 01144]

CDC Support To Improve Uptake of Prevention of Mother to Child Transmission of HIV (PMTCT) Programme in Botswana; Notice of Availability of Program Support

A. Purpose

The Centers for Disease Control and Prevention (CDC) announces the availability of fiscal year FY 2001 funds for a grant program for the PMTCT Programme, Ministry of Health and Ministry of Local Government, Botswana. This program addresses the “Healthy People 2010” focus areas of Access to Quality Health Services, Health Communications, Maternal, Infant, and Child Health and Sexually Transmitted Diseases.

The project is a nationwide prevention program targeting pregnant females to identify HIV positive pregnant women so they may receive antiretroviral prophylactic treatment to prevent the transmission of HIV to their newborn children.

The Government of Botswana will take receipt of the equipment and list as its property to be maintained by them as any other equipment.

B. Eligible Applicants

Assistance will be provided only to the Government of Botswana, Ministry of Health. No other applications are solicited.

This is a sole source grant to provide assistance to the Government of Botswana in the form of equipment to enhance the ability of the program to provide confidential pre- and post-test HIV counseling, and identify HIV positive women eligible for antiretroviral prophylactic treatment so that HIV is not transmitted to the new born child.

The MOH is the only appropriate and qualified organization to fulfill the requirements set forth in this announcement because:

1. The Ministry of Health is uniquely positioned in terms of constitutional authority, mandate, and ability to oversee and safeguard public health. Additionally, it provides over 95% of health care services in Botswana and is the only health care agency to provide AZT, which is a crucial component of the PMTCT program. No other health care agency in Botswana is able to provide free health care services to the general public. The MOH has the unique ability to extend services to all parts of the country.

2.The MOH has in place the central, district, and community based support structure such as clinics and staff to immediately engage in the activities listed in this announcement.

3. The MOH is directly responsible for the implementation, monitoring, and evaluation of population-based HIV/AIDS prevention and care policies and services.

C. Availability of Program Support

It is expected that the support will begin on or about September 30, 2001 and will be made for a 12-month budget period within a project period of up to 2 years.

Continuation awards within an approved project period will be made on the basis of satisfactory progress as evidenced by required reports.

Use of Support

Support is limited to the transfer of equipment to support the specified program activities.

Recipient Participation

The Ministry of Health of Botswana will provide the land, staff, medicines, utilities, and other supplies necessary to carry out the program to prevent mother-to-child transmission of HIV.

D. Program Requirements

In conducting activities to achieve the purpose and meet the objectives of this program, the recipient will be responsible for the following activities:

1. Selecting the sites for equipment installation.

2. Accepting, installing, and maintaining all property and equipment.

3. Integrating the equipment and group videotape into clinics to be used for the intended purpose.

4. Assuming all liability issues and maintaining all appropriate insurance, e.g. accident or property. Indemnify and hold harmless all US Government interest for any personal or property issue. If necessary, providing appropriate storage and coverage for any other incidental costs.

E. Application Content

Use the information in the Program Requirements, Other Requirements, and Evaluation Criteria sections to develop the application content. Your application will be evaluated on the criteria listed, so it is important to follow them in laying out your program plan. The narrative should be no more than 25 double-spaced pages, printed on one side, with one inch margins, and unreduced font.

F. Submission and Deadline

Submit the original and two copies of PHS 5161-1 (OMB Number 0920-0428). Forms are available in the application kit and at the following Internet address: www.cdc.gov/od/pgo/forminfo.htm

On or before August 9, 2001, submit the application to the Grants Management Specialist identified in the “Where to Obtain Additional Information” section of this announcement.

G. Evaluation Criteria

Your application will be evaluated against the following criteria by an independent review group appointed by CDC.

1. Program Plan (25 Points)

The extent to which the applicant specifies the number of videotapes, videotape players, televisions, cabinets, portable buildings and other related equipment needed to show the videotapes which were designed for group pre-test counselling in the approximately 260 clinics and hospitals which provide antenatal clinic (ANC) services.

2. Program Objectives (25 Points)

The extent to which the program objectives are measurable, realistic, specific, and timephased.

3. Methods (25 Points)

The extent to which the applicant describes the methods for accomplishing the proposed objectives and identifies where activities or services will take place. This includes a description of how the applicant will receive and organize the equipment, how the equipment will be used in program activities, and how the applicant will coordinate the installation, maintenance and oversee the proper use and operation of the equipment.

4. Evaluation Plan (25 Points)

The extent to which the applicant describes how the use of the portable buildings by the PMTCT program and/or the clinics will be monitored; and describes methods to assess evidence of use and increases in program participation or up-take attributed to the success of this activity.

The extent to which the applicant describes evaluation activities to assess the impact of the PMTCT videotape and Group HIV Pretest Counselling activities; the ability of the videotape to be successfully integrated into the ANC setting, improve acceptance of counselling, testing, and short-course AZT among eligible pregnant women, and improve health care worker support and implementation of the PMTCT program in Botswana.

5. Equipment List (Not Scored)

The extent to which the applicant itemizes the type and amount of equipment requested.

H. Other Requirements

Technical Reporting Requirements Provide CDC with original plus two copies of quarterly progress reports regarding the acceptance and installation of the equipment.

An annual depreciation report must be submitted to CDC, until the point where the equipment's book value reaches $5,000. All reports shall be stated in U.S. dollars.

There will be a written agreement to execute the transfer of the equipment.

Send all reports to the Grants Management Specialist identified in the “Where to Obtain Additional Information” section of this announcement.

The following additional requirements are applicable to this program.

AR-4 HIV/AIDS Confidentiality Provisions

AR-5 HIV Program Review Panel Requirements

AR-10 Smoke-Free Workplace Requirements

AR-11 Healthy People 2010

AR-14 Accounting System Requirements

I. Authority and Catalog of Federal Domestic Assistance Number

This program is authorized under section 307 of the Public Health Service Act, 42 U.S.C. section 242I, as amended. The Catalog of Federal Domestic Assistance number is 93.941.

J. Where To Obtain Additional Information

This and other CDC announcements can be found on the CDC home page Internet address—http://www.cdc.gov Click on “Funding” then “Grants and Cooperative Agreements.”

If you have questions after reviewing the contents of all the documents, business management technical assistance may be obtained from: Dorimar Rosado, Grants Management Specialist, Grants Management Branch, Procurement and Grants Office, Centers for Disease Control and Prevention, 2920 Brandywine Road, Room 3000 MS-15, Atlanta, GA 30341-4146, Telephone number: 770-488-2782, email address: dpr7@cdc.gov.

For program technical assistance, contact: Ethleen S. Lloyd, c/o U.S. Embassy Gaborone, 2170 Gaborone Place, Washington, DC 20521, Phone: +267-301-696, Fax: +267-373-117, E-mail: esl1@cdc.gov.

Dated: July 2, 2001.
John L. Williams,
Director, Procurement and Grants Office, Centers for Disease Control and Prevention (CDC).

[FR Doc. 01-17040 Filed 7-11-01; 8:45 am]

BILLING CODE 4163-18-P